DEPARTMENT OF THE INTERIOR

National Park Service

Notice of Inventory Completion: University of Nebraska State Museum, University of Nebraska-Lincoln, Lincoln, NE

AGENCY: National Park Service, Interior.

ACTION: Notice.

Notice is here given in accordance with the Native American Graves Protection and Repatriation Act (NAGPRA), 25 U.S.C. 3003, of the completion of an inventory of human remains in the possession of the University of Nebraska State Museum, University of Nebraska-Lincoln, Lincoln NE. The human remains were removed from Sand Creek, Kiowa County, CO.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by University of Nebraska State Museum professional staff in consultation with representatives of the Cheyenne-Arapaho Tribes of Oklahoma, Northern Cheyenne Tribe of the Northern Cheyenne Reservation, and Arapaho Tribe of the Wind River Reservation.

At an unknown date, human remains representing a minimum of one individual were removed from the area of Sand Creek, Kiowa County, CO. In 1927, a fragment of a human cranium was donated to the University of Nebraska State Museum by Mrs. J.B. Wright of Lincoln, NE. A label on the cranium fragment states “part of Indian's skull killed in fight with Col. Shivington [sic] at Sand Creek Col in 1868.” No known individual was identified. No associated funerary objects are present.

Consultation with representatives of the Cheyenne-Arapaho Tribes of Oklahoma, Northern Cheyenne Tribe of the Northern Cheyenne Reservation, and Arapaho Tribe of the Wind River Reservation indicates that persons affiliated with these tribes were slain at Sand Creek, CO, on November 29, 1864, when Col. John Chivington led a regiment of the Colorado Volunteers in an attack on the Sand Creek Indian Reservation. Based on geographic and historical information provided by tribal representatives during consultation and the information on the label associated with the remains, officials of the University of Nebraska State Museum have determined that the human remains are those of a Native American killed in the Sand Creek Massacre at Sand Creek, CO, in 1864.

Officials of the University of Nebraska State Museum have determined that, pursuant to 25 U.S.C. 3001 (9-10), the human remains described above represent the physical remains of one individual of Native American ancestry. Officials of the University of Nebraska State Museum also have determined that, pursuant to 25 U.S.C. 3001 (2), there is a relationship of shared group identity that can be reasonably traced between the Native American human remains and the Cheyenne-Arapaho Tribes of Oklahoma, Northern Cheyenne Tribe of the Northern Cheyenne Reservation, and Arapaho Tribe of the Wind River Reservation.

Representatives of any other Indian tribe that believes itself to be culturally affiliated with these human remains should contact Priscilla Grew, NAGPRA Coordinator, University of Nebraska-Lincoln, 301 Bessey Hall, Lincoln, NE 68588-0381, telephone (402) 472-7854, before December 31, 2003. Repatriation of the human remains to the Cheyenne-Arapaho Tribes of Oklahoma, Northern Cheyenne Tribe of the Northern Cheyenne Reservation, and Arapaho Tribe of the Wind River Reservation may proceed after that date if no additional claimants come forward.

The University of Nebraska-Lincoln is responsible for notifying the Cheyenne-Arapaho Tribes of Oklahoma, Northern Cheyenne Tribe of the Northern Cheyenne Reservation, and Arapaho Tribe of the Wind River Reservation that this notice has been published.

Dated: September 17, 2003.
John Robbins,
Assistant Director, Cultural Resources.

[FR Doc. 03-29778 Filed 11-28-03; 8:45 am]

BILLING CODE 4310-50-S